SMALL BUSINESS ADMINISTRATION

[Disaster Declaration #11079 and #11080]

California Disaster Number CA-00074

AGENCY: U.S. Small Business Administration.

ACTION: Amendment 1.

SUMMARY: This is an amendment of the Presidential declaration of a major disaster for the State of California (FEMA-1731-DR), dated 10/24/2007.

Incident: Wildfires.

Incident Period: 10/21/2007 and Continuing.

Effective Date: 11/20/2007.

Physical Loan Application Deadline Date: 01/09/2008.

EIDL Loan Application Deadline Date: 07/24/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of California, dated 10/24/2007 is hereby amended to extend the deadline for filing applications for physical damages as a result of this disaster to 01/09/2008.

All other information in the original declaration remains unchanged.

(Catalog of Federal Domestic Assistance Numbers 59002 and 59008).

James E. Rivera,
Acting Associate Administrator for Disaster Assistance.

[FR Doc. E7-23486 Filed 12-3-07; 8:45 am]

BILLING CODE 8025-01-P